DEPARTMENT OF TRANSPORTATION

Federal Motor Carrier Safety Administration

[Docket No. FMCSA-2011-0142]

Qualification of Drivers; Exemption Applications; Vision

AGENCY: Federal Motor Carrier Safety Administration (FMCSA), DOT.

ACTION: Notice of applications for exemptions; request for comments.

SUMMARY: FMCSA announces receipt of applications from 17 individuals for exemption from the vision requirement in the Federal Motor Carrier Safety Regulations. If granted, the exemptions would enable these individuals to qualify as drivers of commercial motor vehicles (CMVs) in interstate commerce without meeting the Federal vision standard.

DATES: Comments must be received on or before September 9, 2011.

ADDRESSES: You may submit comments bearing the Federal Docket Management System (FDMS) Docket No. FMCSA-2011-0142 using any of the following methods:

• Federal eRulemaking Portal: Go to http://www.regulations.gov. Follow the on-line instructions for submitting comments.

• Mail: Docket Management Facility; U.S. Department of Transportation, 1200 New Jersey Avenue, SE., West Building Ground Floor, Room W12-140, Washington, DC 20590-0001.

• Hand Delivery: West Building Ground Floor, Room W12-140, 1200 New Jersey Avenue, SE., Washington, DC, between 9 a.m. and 5 p.m., Monday through Friday, except Federal Holidays.

• Fax: 1-202-493-2251.

Instructions: Each submission must include the Agency name and the docket numbers for this notice. Note that all comments received will be posted without change to http://www.regulations.gov, including any personal information provided. Please see the Privacy Act heading below for further information.

Docket: For access to the docket to read background documents or comments, go to http://www.regulations.gov at any time or Room W12-140 on the ground level of the West Building, 1200 New Jersey Avenue, SE., Washington, DC, between 9 a.m. and 5 p.m., Monday through Friday, except Federal holidays. The FDMS is available 24 hours each day, 365 days each year. If you want acknowledgment that we received your comments, please include a self-addressed, stamped envelope or postcard or print the acknowledgement page that appears after submitting comments on-line.

Privacy Act: Anyone may search the electronic form of all comments received into any of our dockets by the name of the individual submitting the comment (or of the person signing the comment, if submitted on behalf of an association, business, labor union, etc.). You may review DOT's Privacy Act Statement for the FDMS published in the Federal Register on January 17, 2008 (73 FR 3316), or you may visit http://edocket.access.gpo.gov/2008/pdf/E8-785.pdf.

FOR FURTHER INFORMATION CONTACT: Elaine M. Papp, Chief, Medical Programs, (202) 366-4001, fmcsamedical@dot.gov, FMCSA, Department of Transportation, 1200 New Jersey Avenue, SE., Room W64-224, Washington, DC 20590-0001. Office hours are from 8:30 a.m. to 5 p.m., Monday through Friday, except Federal holidays.

SUPPLEMENTARY INFORMATION:

Background

Under 49 U.S.C. 31136(e) and 31315, FMCSA may grant an exemption from the Federal Motor Carrier Safety Regulations for a 2-year period if it finds “such exemption would likely achieve a level of safety that is equivalent to or greater than the level that would be achieved absent such exemption.” FMCSA can renew exemptions at the end of each 2-year period. The 17 individuals listed in this notice have each requested such an exemption from the vision requirement in 49 CFR 391.41(b)(10), which applies to drivers of CMVs in interstate commerce. Accordingly, the Agency will evaluate the qualifications of each applicant to determine whether granting an exemption will achieve the required level of safety mandated by statute.

Qualifications of Applicants

Stephan P. Adamczyk

Mr. Adamczyk, age 49, has had amblyopia in his left eye since birth. The best corrected visual acuity in his right eye is 20/20 and in his left eye, no light perception. Following an examination in 2011, his optometrist noted, “Based on the results of my examination, I certify that in my medical opinion, Stephen P. Adamczyk has sufficient vision to perform the tasks required to operate a commercial vehicle.” Mr. Adamczyk reported that he has driven straight trucks for 24 years, accumulating 1.3 million miles. He holds a Class C operator's license from Maine. His driving record for the last 3 years shows no crashes and no convictions for moving violations in a CMV.

Shaun E. Burnett

Mr. Burnett, 37, has had amblyopia in his left eye since childhood. The best corrected visual acuity in his right eye is 20/15 and in his left eye, 20/125. Following an examination in 2011, his optometrist noted, “Once again, in my optometric opinion, Shaun is sufficiently capable of operating a commercial vehicle while performing the required tasks in his profession.” Mr. Burnett reported that he has driven tractor-trailer combinations for 14 years, accumulating 1.4 million miles. He holds a Class A Commercial Driver's License (CDL) from Iowa. His driving record for the last 3 years shows no crashes and no convictions for moving violations in a CMV.

Kevin W. Cannon

Mr. Cannon, 41, has had glaucoma and severe loss of vision in his left eye due to glaucoma since 2008. Visual acuity in his right eye is 20/20 and in his left eye, no light perception. Following an examination in 2011, his optometrist noted, “He has significant vision in my professional opinion to safely operate a commercial vehicle.” Mr. Cannon reported that he has driven tractor-trailer combinations for 19 years, accumulating 950,000 miles. He holds a Class A CDL from Kansas. His driving record for the last 3 years shows no crashes but one conviction for speeding in a CMV. He exceeded the speed limit by 13 miles per hour (mph).

Daniel W. Eynon

Mr. Eynon, 49, has had a macular scar in his right eye due to an injury sustained in 1978. The best corrected visual acuity in his right eye is 20/160 and in his left eye, 20/20. Following an examination in 2011, his ophthalmologist noted, “In my medical opinion, the patient has sufficient vision to perform his driving tasks and to operate a commercial vehicle.” Mr. Eynon reported that he has driven tractor-trailer combinations for 28 years, accumulating 2.5 million miles. He holds a Class A CDL from Ohio. His driving record for the last 3 years shows no crashes and no convictions for moving violations in a CMV.

Anton Filic

Mr. Filic, 39, has had amblyopia in his left eye since childhood. The best corrected visual acuity in his right eye is 20/20 and in his left eye, 20/200. Following an examination in 2011, his optometrist noted, “I, Bert Bubela, OD, certify that in my medical opinion Anton Filic has sufficient vision to perform the driving tasks required to operate a commercial vehicle.” Mr. Filic reported that he has driven straight trucks for 6 years, accumulating 480,000 miles and tractor-trailer combinations for 6 years, accumulating 900,000 miles. He holds a Class A CDL from Texas. His driving record for the last 3 years shows no crashes and no convictions for moving violations in a CMV.

Mark E. Geesner

Mr. Gessner, 48, has been hyperopic in both of his eyes since childhood. The best corrected visual acuity in his right eye is 20/20 and in his left eye, 20/80. Following an examination in 2011, his optometrist noted, “In my professional medical opinion, Mr. Mark Gessner has more than sufficient vision to perform the driving tasks required in operating a commercial vehicle.” Mr. Gessner reported that he has driven straight trucks for 10 years, accumulating 500,000 miles and tractor-trailer combinations for 11 years, accumulating 990,000 miles. He holds a Class A CDL from Florida. His driving record for the last 3 years shows no crashes but one conviction for a moving violation in a CMV; failure to obey a traffic signal.

Stephen A. Grieser

Mr. Grieser, 60, has had amblyopia in his right eye since birth. The best corrected visual acuity in his right eye is count-finger vision and in his left eye, 20/20. Following an examination in 2011, his optometrist noted, “I am in agreement with Dr. Kim Powell that the K2 restriction be removed from his CDL license and that he be granted a CDL without restriction.” Mr. Grieser reported that he has driven straight trucks for 32 years, accumulating 320,000 miles and tractor-trailer combinations for 32 years, accumulating 448,000 miles. He holds a Class A CDL from Ohio. His driving record for the last 3 years shows no crashes but one conviction for speeding in a CMV; he exceeded the speed limit by 10 mph.

Michael L. Harrison

Mr. Harrison, 56, has had complete loss of vision in his left eye due an injury in 1971. The best corrected visual acuity in his right eye is 20/20. Following an examination in 2011, his optometrist noted, “Based on meeting your requirements, I believe he has sufficient vision to perform the driving tasks required to operate a commercial vehicle.” Mr. Harrison reported that he has driven straight trucks for 1½ years, accumulating 124,500 miles, tractor-trailer combinations for 26 years, accumulating 2 million miles and buses for 1½ years, accumulating 76,500 miles. He holds a Class A CDL from Florida. His driving record for the last 3 years shows no crashes but one conviction for speeding in a CMV; he exceeded the speed limit by 23 mph.

Dennis H. Heller

Mr. Heller, 58, has had complete loss of vision in his left eye due to a traumatic incident in 1994. The best corrected visual acuity in his right eye is 20/25. Following an examination in 2011, his ophthalmologist noted, “Mr. Heller describes commercial operation of trucks for many years and reports no trouble in their operation. I can see no reason from an ocular standpoint that his performance has changed over the years although of course he has no true stereopsis since the time of his accident.” Mr. Heller reported that he has driven straight trucks for 42 years, accumulating 1.4 million miles and tractor trailer-combinations for 37 years, accumulating 111,000 miles. He holds a CDL Class A from Kansas. His driving record for the last 3 years shows no crashes and no convictions for moving violations in a CMV.

Reginald J. Horner

Mr. Horner, 70, has had ruptured globe in his right eye due to a traumatic injury he sustained in 2001. The best corrected visual acuity in his right eye is no light perception and in his left eye, 20/20. Following an examination in 2011, his ophthalmologist noted, “In my opinion, Mr. Horner's condition should not preclude him from sufficient vision to perform driving tasks of a commercial vehicle.” Mr. Horner reported that he has driven straight trucks for 16 years, accumulating 9,600 miles. He holds a Class B CDL from New York. His driving record for the last 3 years shows no crashes and no convictions for moving violations in a CMV.

Eric L. Kinner

Mr. Kinner, 54, has had amblyopia in his left eye since childhood. The best corrected visual acuity in his right eye is 20/20 and in his left eye, 20/70. Following an examination in 2011, his optometrist noted, “This letter is to certify in my medical opinion, that Mr. Kinner has sufficient vision to perform the driving tasks required to operate a commercial vehicle.” Mr. Kinner reported that he has driven straight trucks for 9 years, accumulating 330,000 miles. He holds a Class A CDL from New York. His driving record for the last 3 years shows no crashes and no convictions for moving violations in a CMV.

Everett H. Logan

Mr. Logan, 44, has had amblyopia in his right eye since childhood. The best corrected visual acuity in his right eye is 20/50 and in his left eye, 20/20. Following an examination in 2011, his optometrist noted, “It is my opinion that Mr. Everett Logan has sufficient vision to perform the driving tasks required to operate a commercial vehicle.” Mr. Logan reported that he has driven straight trucks for 3 years, accumulating 150,000 miles and tractor-trailer combinations for 19 years, accumulating 2.1 million miles. He holds a Class A CDL from Ohio. His driving record for the last 3 years shows no crashes and no convictions for moving violations in a CMV.

Robert E. Morgan, Jr.

Mr. Morgan, 54, has a prosthetic right eye due to an injury he sustained as a child. The best corrected visual acuity in his left eye is 20/20. Following an examination in 2011, his optometrist noted, “I feel that he is capable of safely operating a commercial vehicle.” Mr. Morgan reported that he has driven straight trucks for 35 years, accumulating 525,000 miles. He holds a Class C operator's license from Georgia. His driving record for the last 3 years shows no crashes and no convictions for moving violations in a CMV.

Jerry R. Orndorff

Mr. Orndorff, 63, has had a macular hole in his right eye since 2005. The best corrected visual acuity in his right eye 20/60 and in his left eye, 20/20. Following an examination in 2011, his ophthalmologist noted, “My opinion is that he should be safe to drive with the vision he presently has.” Mr. Orndorff reported that he has driven tractor-trailer combinations for 29 years, accumulating 1.7 million miles. He holds a Class A CDL from West Virginia. His driving record for the last 3 years shows no crashes and no convictions for moving violations in a CMV.

Gerald A. Pilarski

Mr. Pilarski, 50, has had amblyopia in his right eye since childhood. The best corrected visual acuity in his right eye is 20/50 and in his left eye, 20/20. Following an examination in 2011, his optometrist noted, “In my opinion, he has sufficient vision to perform the driving tasks to operate a commercial vehicle safely.” Mr. Pilarski reported that he has driven straight trucks for 15 years, accumulating 450,000 miles. He holds an operator's license from Indiana. His driving record for the last 3 years shows no crashes and no convictions for moving violations in a CMV.

Jason W. Rupp

Mr. Rupp, 39, has had strabismic amblyopia in his left eye since childhood. The best corrected visual acuity in his right eye is 20/20 and in his left eye, 20/150. Following an examination in 2011, his optometrist noted, “In my opinion, Mr. Rupp has sufficient vision to perform the tasks required of a commercial driver.” Mr. Rupp reported that he has driven tractor-trailer combinations for 6 years, accumulating 60,000 miles. He holds a Class C operator's license from Pennsylvania. His driving record for the last 3 years shows no crashes and no convictions for moving violations in a CMV.

John F. Zalar

Mr. Zalar, 54, has had amblyopia in his left eye since birth. The best corrected visual acuity in his right eye is 20/20 and in his left eye, count-finger vision. Following an examination in 2011, his optometrist noted, “In my opinion, I feel this patient can perform all driving tasks required to operate a commercial vehicle.” Mr. Zalar reported that he has driven tractor-trailer combinations for 33 years, accumulating 3.3 million miles. He holds a Class D operator's license from New York. His driving record for the last 3 years shows one crash, for which he was not cited, and no convictions for moving violations in a CMV.

Request for Comments

In accordance with 49 U.S.C. 31136(e) and 31315, FMCSA requests public comment from all interested persons on the exemption petitions described in this notice. The Agency will consider all comments received before the close of business September 9, 2011. Comments will be available for examination in the docket at the location listed under the ADDRESSES section of this notice. The Agency will file comments received after the comment closing date in the public docket, and will consider them to the extent practicable.

In addition to late comments, FMCSA will also continue to file, in the public docket, relevant information that becomes available after the comment closing date. Interested persons should monitor the public docket for new material.

Issued on: August 4, 2011.
Larry W. Minor,
Associate Administrator Office of Policy.

[FR Doc. 2011-20297 Filed 8-9-11; 8:45 am]

BILLING CODE 4910-EX-P